DEPARTMENT OF JUSTICE

Notice of Lodging of Proposed Consent Decree Under the Resource Conservation and Recovery Act

On February 26, 2013, the Department of Justice lodged a proposed Consent Decree with the United States District Court for the Northern District of New York in the lawsuit entitled United States v. Adirondack Energy Products, Inc., et al., Civil Action No. 11-cv-213 (TJM).

The settlement relates to eight retail gasoline service stations and/or petroleum bulk storage stations located in New York that are owned and operated by the Defendants. The Defendants include Adirondack Energy Products, Inc.; Mountain Mart #104, LLC; Mountain Mart #105, LLC; Mountain Mart #106, LLC; Mountain Mart #107, LLC; and Mountain Mart #108, LLC.

The proposed Consent Decree resolves claims of the United States under the Solid Waste Disposal Act, as amended by various laws including the Resource Conservation and Recovery Act related to the facilities that are the subject of the complaint. Under the proposed Consent Decree, the Defendants will pay a civil penalty in the amount of $46,000 to the United. In addition, the Consent Decree requires the installation of fully automated electronic release detection monitoring equipment on the UST systems and associated piping owned and/or operated by Defendants at the facilities that are the subject of the Consent Decree. The Consent Decree includes three supplemental environmental projects requiring the Defendants to (1) Centralized monitoring equipment to collect the data generated by the electronic release detection system; (2) conduct a third-party environmental compliance audit of each facility; and (3) conduct a community outreach seminar to educate regulated UST owners and/or operators regarding the federal regulations that apply to the operation and maintenance of UST systems.

The publication of this notice opens a period for public comment on the Consent Decree. Comments should be addressed to the Assistant Attorney General, Environment and Natural Resources Division, and should refer to United States v. Adirondack Energy Products, Inc., et al., D.J. Ref. No. 90-7-1-09900. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $12.25 (25 cents per page reproduction cost) payable to the United States Treasury.

Ronald G. Gluck,
Assistant Section Chief, Environmental Enforcement Section, Environment and Natural Resources Division.

[FR Doc. 2013-04968 Filed 3-4-13; 8:45 am]

BILLING CODE 4410-15-P